DEPARTMENT OF DEFENSE

Office of the Secretary

[Docket ID: DoD-2022-OS-0068]

Submission for OMB Review; Comment Request

AGENCY: Office of the Under Secretary of Defense for Personnel and Readiness (OUSD(P&R)), Department of Defense (DoD).

ACTION: 30-Day information collection notice.

SUMMARY: The DoD has submitted to the Office of Management and Budget (OMB) for clearance the following proposal for collection of information under the provisions of the Paperwork Reduction Act.

DATES: Consideration will be given to all comments received by November 25, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Boren Scholarship and Fellowship Survey; OMB Control Number 0704-BSFS.

Type of Request: New.

Number of Respondents: 1,299.

Responses per Respondent: 1.

Annual Responses: 1,299.

Average Burden per Response: 30 minutes.

Annual Burden Hours: 649.5 hours.

Needs and Uses: The Defense Language and National Security Education Office (DLNSEO) of the DoD is requesting OMB clearance for the Boren Scholarship and Fellowship Survey. DLNSEO has contracted with the RAND Corporation to conduct an evaluation of the Boren Scholarship and Fellowship Awards Program. The Boren Awards program, established in 1991, was authorized under the David L. Boren National Security Education Act, as amended, Public Law 102-183. The Boren Awards provide funding for long-term, overseas, immersive study to U.S. undergraduate and graduate students who are committed to public service. Boren awardees study languages and cultures that are critical to U.S. national security as part of their degree programs; in exchange, they agree to use the skills within DoD or other Federal agencies by seeking and securing Federal employment for at least one year after completing their degrees. The Boren Awards program was last evaluated in 2014 using a survey and interviews to determine how the program had affected the careers of those who had received Boren awards. Since the 2014 survey, more than 2,000 new Boren awardees have completed the Federal employment service commitment, yielding an alumni base of more than 4,000. The OUSD(P&R) contracted with the RAND National Defense Research Institute to conduct a new program evaluation, which would include a web-based survey of alumni, discussions with key stakeholders, and comparison of past data with new data to be collected during this project. The findings will support the OUSD(P&R) in evaluating the outcomes of the program, enabling comparisons between past and more-recent outcomes, and ultimately enhancing the Boren Awards' effectiveness in building and sustaining a federal workforce of diverse, language and culture-enabled individuals.

Affected Public: Individuals or households.

Frequency: Once.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: October 19, 2022.
Kayyonne T. Marston,
Alternate OSD Federal Register Liaison Officer, Department of Defense.

[FR Doc. 2022-23094 Filed 10-24-22; 8:45 am]

BILLING CODE 5001-06-P